DEPARTMENT OF TRANSPORTATION

Federal Highway Administration

Notice of Final Federal Agency Actions on Proposed Highway Project in California

AGENCY: Federal Highway Administration (FHWA), DOT.

ACTION: Notice of limitation on claims for judicial review of actions by FMWA and other Federal agencies.

SUMMARY: This notice announces a final approval action taken by the FHWA within the meaning of 23 U.S.C. 139(l)(1). The action concerns a proposed project, First Street Viaduct and Street Widening Project on First Street between Hewitt Street and Clarence Street in Los Angeles County, California.

DATES: By this notice, the FHWA is advising the public of final agency action subject to 23 U.S.C. 139(l)(1). A claim seeking judicial review of the Federal agency actions on the highway project will be barred unless the claim is filed on or before August 30, 2006. If the Federal law that authorizes judicial review of a claim provides a time period of less than 180 days for filing such claim, then that shorter time period still applies.

FOR FURTHER INFORMATION CONTACT: Steve Healow, Project Development Engineer, Federal Highway Administration, 650 Capitol Mall #4-100, Sacramento, CA 95814, weekdays between the hours of 7 a.m. and 4 p.m., telephone 916-498-5849, Steve.Healow@fhwa.dot.gov. Gary Iverson, California Department of Transportation, Division of Environmental Planning, 100 South Main Street, Ste #100, Los Angeles, CA 90012-3712, 213-897-3818, Gary.Iverson@dot.ca.gov.

SUPPLEMENTARY INFORMATION: Notice is hereby given that the FHWA has signed a Record of Decision for the First Street Viaduct and Street Widening Project [#BHLS-5006(636)] in Los Angeles, California. The project will widen the First Street Viaduct by approximately twenty-six feet, providing two eastbound and two westbound traffic lanes on the viaduct between Vignes Street and Mission Road separated by dual light rail tracks within a raised median. The project would also widen First Street east of the viaduct between Mission Road and Clarence Street to align the street with the widened viaduct. Further improvements to the viaduct will replace the north railing, provide roadway shoulders and reconstruct the Santa Fe Avenue and Myers Street undercrossings to meet current design standards. Total length of the project is approximately 0.7 miles. The actions by the Federal agencies, and the laws under which such actions were taken, are described in the Final Environmental Impact Statement (FEIS) for the project, approved on November 30, 2005, in the FHWA Record of Decision (ROD) issued on February 22, 2006, and in other documents in the FHWA administrative record. The FEIS, ROD, and other documents in the FHWA administrative record file are available by contacting the FHWA or the California Department of Transportation at the addresses provided above.

This notice applies to all Federal agency decisions as of the issuance date of this notice and all laws under which such actions were taken, including but not limited to the National Environmental Policy Act, the National Historic Preservation Act, Section 4(f) of the Department of Transportation Act of 1966 (49 U.S.C. 303), the Endangered Species Act, the Clean Air Act, and the Uniform Relocation Assessment and Real Property Acquisition Policies Act of 1970, as amended [No private right of action under SAFETEA-LU].

(Catalog of Federal Domestic Assistance Program Number 20.205, Highway Planning and Construction. The regulations implementing Executive order 12372 regarding intergovernmental consultation on Federal programs and activities apply to this program.)

Authority: 23 U.S.C. 139(l)(1).

Issued on: February 24, 2006.
Gene K. Fong,
Division Administrator, Sacramento, CA.

[FR Doc. 06-1988 Filed 3-2-06; 8:45 am]

BILLING CODE 4910-22-M